DEPARTMENT OF HEALTH AND HUMAN SERVICES

Centers for Disease Control and Prevention

[60Day-09-09CC]

Proposed Data Collections Submitted for Public Comment and Recommendations

In compliance with the requirement of Section 3506(c)(2)(A) of the Paperwork Reduction Act of 1995, the Centers for Disease Control and Prevention (CDC) is soliciting public comment on the specific aspects of the proposed information collection described below. To request more information on the proposed projects or to obtain a copy of the data collection plans and instruments, call 404-639-5960 and send comments to Maryam I. Daneshvar, CDC Acting Reports Clearance Officer, 1600 Clifton Road, MS-D74, Atlanta, GA 30333; or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

CDC American Recovery and Reinvestment Act of 2009 (ARRA) Performance Progress Report—New—Office of the Chief Operating Officer (OCOO), Centers for Disease Control and Prevention (CDC).

Background and Brief Description

The American Recovery and Reinvestment Act of 2009 was signed into law on February 17, 2009, Public Law 111-5 (“Recovery Act”). The purpose of this proposed data collection is to collect quarterly performance information for all CDC grants and cooperative agreements funded under the Recovery Act. This will allow CDC to receive reports on recipient performance measures as set forth in the applicable Funding Opportunity Announcement (FOA) and Notice of Grant Award. This requirement is in addition to the reporting requirements of Section 1512 of the Recovery Act, set forth by the Office of Management and Budget (OMB) under the data collection instrument titled “Standard Data Elements for Reports under Section 1512 of the American Recovery and Reinvestment Act of 2009, Public Law 111-5 (Grants, Cooperative Agreements and Loans).”

The form CDC proposes to use is a modified Performance Progress Report (SF-PPR) which was successfully piloted by the Administration for Children and Families (ACF). CDC intends to use this modified form for quarterly standard reporting of performance measures set forth in the applicable FOA and Notice of Grant Award for all CDC Recovery Act funded grants and cooperative agreements. In addition to allowing for uniformity of information collection, this format will support systematic electronic collection and submission of information. The form contains identifying data elements and a section for a performance narrative.

There are no costs to respondents other than their time.

Estimated Annualized Burden Hours
Respondents | Number of respondents | Number of responses per respondent | Average burden per response (in hours) | Total burden (in hours)
Recipients using CDC ARRA Performance Progress Report | 405 | 4 | 1.5 | 2430

Dated: July 8, 2009.
Maryam I. Daneshvar,
Acting Reports Clearance Officer, Centers for Disease Control and Prevention.

[FR Doc. E9-16772 Filed 7-14-09; 8:45 am]

BILLING CODE 4163-18-P